DEPARTMENT OF HEALTH AND HUMAN SERVICES

Food and Drug Administration

[Docket No. 98D-0969]

Use of Antimicrobial Drugs in Food Animals and Establishment of Regulatory Thresholds on Antimicrobial Resistance; Amendment

AGENCY: Food and Drug Administration, HHS.

ACTION: Notice.

The Food and Drug Administration (FDA) is amending an announcement of the following meeting: Use of Antimicrobial Drugs in Food Animals and Establishment of Regulatory Thresholds on Antimicrobial Resistance. The topic to be discussed is the Center for Veterinary Medicine's (CVM's) current thinking on concepts for the establishment of resistance and monitoring thresholds in food-producing animals. This documents amends the date and title of the meeting (formally entitled “Establishment of Resistance and Monitoring Thresholds in Food-Producing Animals”) that we previously announced in the Federal Register of July 28, 2000 (63 FR 46464), and amended on September 26, 2000 (65 FR 57820).

Date and Time: The meeting will be held on January 22 through 24, 2001, 8:30 a.m. to 5 p.m.

Location: The meeting will be held at the DoubleTree Hotel, 1750 Rockville Pike, Rockville, MD.

For Further Information Contact:

For general inquiries about the meeting and registration contact: Lynda W. Cowatch, Center for Veterinary Medicine (HFV-150), Food and Drug Administration, 7500 Standish Pl., Rockville MD 20855, 301-827-5281, FAX 301-594-2298.

For technical inquiries contact: Aleta M. Sindelar, Center for Veterinary Medicine (HFV-1), Food and Drug Administration, 7500 Standish Pl., Rockville MD 20855, 301-827-0148.

Registration: Registration is required. There is no registration fee for the meeting. Limited space is available, and early registration is encouraged. Logistics for the meeting and the registration form are available on the Internet at http://www.fda.gov/cvm/fda/mappgs/registration.html. Please send the registration form to Lynda W. Cowatch (address above). Additional information about the meeting and the agenda will be available on the Internet (address above) before the meeting.

If you need special accommodations due to a disability, please contact the DoubleTree Hotel at least 7 days in advance, 1-800-222-8733.

Transcripts: Transcripts of the meeting will be available on the Internet at http://www.fda.gov/cvm.

Dated: December 21, 2000.
Margaret M. Dotzel,
Associate Commissioner for Policy.

[FR Doc. 00-33371 Filed 12-28-00 8:45 am]

BILLING CODE 4160-01-F